DEPARTMENT OF TRANSPORTATION

Federal Aviation Administration

Public Notice for Waiver of Aeronautical Land-Use Assurance Kalamazoo/Battle Creek International Airport Kalamazoo, MI

AGENCY: Federal Aviation Administration, DOT.

ACTION: Notice of intent of waiver with respect to land.

SUMMARY: The Federal Aviation Administration (FAA) is considering a proposal to change a portion of the airport from aeronautical use to non-aeronautical use and to authorize the sale of the airport property. The proposal consists of 2 parcels of land totaling approximately 6.13 acres. Current use and present condition is as an overflow parking area for car rental vehicles on the southern portion of subject parcels. The northern portion of subject parcels is vacant, unimproved land. The land was not acquired with federal funds. There are no impacts to the airport by allowing the airport to dispose of the property. The proposal concerns selling the land to a corporation that will construct a commercial office building on the site. Approval does not constitute a commitment by the FAA to financially assist in the disposal of the subject airport property nor a determination of eligibility for grant-in-aid funding from the FAA. The disposition of proceeds from the disposal of the airport property will be in accordance FAA's Policy and Procedures Concerning the Use of Airport Revenue, published in the Federal Register on February 16, 1999.

In accordance with section 47107(h) of title 49, United States Code, this notice is required to be published in the Federal Register 30 days before modifying the land-use assurance that requires the property to be used for an aeronautical purpose.

DATES: Comments must be received on or before May 25, 2005.

FOR FURTHER INFORMATION CONTACT: Mr. Lawrence C. King, Project Manager, Federal Aviation Administration, Great Lakes Region, Detroit Airports District Office, DET ADO 607, 11677 South Wayne Road, Romulus, Michigan 48174. Telephone Number (734) 229-2933/Fax Number (734) 229-2950. Documents reflecting this FAA action may be reviewed at this same location or at Kalamazoo/Battle Creek International Airport, Kalamazoo, Michigan.

SUPPLEMENTARY INFORMATION: Following is a legal description of the property located in Kalamazoo, Kalamazoo County, Michigan, and described as follows:

Parcel “A”

Part of the Northeast ¼ of Section 2, Town 3 South, Range 11 West, City of Kalamazoo, Kalamazoo County, Michigan, described as commencing at the North ¼ corner of said Section; thence S00°35′50″ E along the North-South ¼ line of Section 2 a distance of 1129.82 feet, (recorded as a distance of 1130.00 feet); thence N89°24′32″ E a distance of 996.88 feet, (recorded as N89°24′10″ E a distance of 997.27 feet) to the point of beginning; thence N00°32′18″ W a distance of 541.88 feet, (recorded as N00°35′50″ W a distance of 542.17 feet); thence N89°59′28″ E a distance of 101.85 feet, (recorded as N89°51′10″ E a distance of 101.74 feet); thence N00°51′54″ W a distance of 47.35 feet, (recorded as N00°08′50″ W a distance of 47.00 feet); thence N89°56′28” E a distance of 299.81 feet, (recorded as N89°51′10″ E a distance of 299.17 feet); thence S09°11′15″ E a distance of 542.42 feet, (recorded as S09°12′50″ E) to the Northerly right of way of Fairfield Road; thence S40°10′02″ W along the said right of way a distance of 65.75 feet; thence S89°28′32″ W along the said right of way a distance of 440.07 feet to the point of beginning. Contains 255,945 square feet or 5.876 acres.

Part “C”

Part of the Northeast ¼ of Section 2, Town 3 South, Range 11 West, City of Kalamazoo, Kalamazoo County, Michigan, described as commencing at the North ¼ corner of said Section; thence S00°35′50″ E along the North-South ¼ line of Section 2 a distance of 1129.82 feet, (recorded as a distance of 1130.00 feet); thence N89°24′32″ E a distance of 996.88 feet, (recorded as N89D24′10″ E a distance of 997.27 feet); thence S69°10′09″ E a distance of 180.47 feet to the southerly right of way of Fairfield Road; thence N89°28′32″ E along said right of way a distance of 332.47 feet to the point of beginning; thence S89°28′32″ W along said right of way a distance of 154.27 feet; thence N00°31′28″ W a distance of 65.72 feet to the Northerly right of way of Fairfield Road; thence N89°28′32″ E along the Northerly right of way of Fairfield Road a distance of 93.79 feet; thence N40°10′02″ E along said right ofo way a distance of 65.75 feet; thence S09°11′15″ E along the easterly right of way of Fairfield Road a distance of 116.90 feet to the point of beginning. Contains 11,067 square feet or 0.254 acres.

Total acres to be released are 6.13, more or less.

Dated: Issued in Romulus, Michigan on April 1, 2005.
Irene R. Porter,
Manager, Detroit Airports District Office FAA, Great Lakes Region.

[FR Doc. 05-8135 Filed 4-22-05; 8:45 am]

BILLING CODE 4910-13-M